DEPARTMENT OF HEALTH AND HUMAN SERVICES

Centers for Disease Control and Prevention

Statement of Organization, Functions, and Delegations of Authority

Part C (Centers for Disease Control and Prevention) of the Statement of Organization, Functions, and Delegations of Authority of HHS (45 FR 67772-76, dated October 14, 1980, and corrected at 45 FR 69296, October 20, 1980, as amended most recently at 87, 42478-42483, dated July 15, 2022) is amended to reflect the reorganization of the Center for Preparedness and Response, Deputy Director for Public Health Service and Implementation Science, CDC. This reorganization approved by the Director, CDC, on July 18, 2022, will advance the nation's preparedness and response for public health emergencies and threats, provide enhanced oversight of scientific research laboratories, and eliminate workflow inefficiencies.

Section C-B, Organization and Functions, is hereby amended as follows:

Delete in its entirety the titles and mission and function statements for the Center for Preparedness and Response (CBC) and insert the following:

Center for Preparedness and Response (CBC). The mission of the Center for Preparedness and Response (CPR) is to advance the nation's preparedness and response for public health emergencies and threats. To carry out its mission, CPR: (1) fosters collaborations, partnerships, integration, and resource leveraging to increase the Centers for Disease Control and Prevention's (CDC) health impact and achieve population health goals; (2) provides strategic direction to support CDC's public health preparedness and response efforts; (3) manages CDC-wide preparedness and emergency response programs; (4) maintains CDC's platforms for emergency response operations—including the Emergency Operations Center (EOC), the Public Health Emergency Preparedness Cooperative Agreement Program and the Select Agent and Toxins regulatory program; (5) communicates the mission, functions and activities of public health preparedness and emergency response to internal and external stakeholders; (6) provides program support, technical assistance, guidance and fiscal oversight to state, local, tribal and territorial public health department grantees; (7) provides CDC's core incident management structure to coordinate and execute preparedness and response activities; (8) regulates the possession, use and transfer of select agents and toxins and the importation of etiological agents, hosts, and vectors of human disease to protect public health in the United States; (9) provides the centralized management and coordination of national scenario capabilities planning and exercising of these plans for CDC; and (10) leads in developing and executing a national Polio Virus (PV) containment program, and minimizes the risk of PV release through effective implementation and oversight of the global poliovirus containment plan in the U.S.

Office of the Director (CBC1). (1) Provides overall leadership, oversight, and guidance for all CPR programs; (2) oversees the development of policy, long-range plans, and programs of the Center, (3) ensures the enforcement of overarching policies and guidelines developed by federal agencies, HHS, and CDC Staff Offices; (4) manages CPR preparedness and response activities; (5) coordinates program activities with other CDC components, other federal, state and local government agencies, and the private sector groups; (6) provides leadership for the coordination of technical assistance to other countries and international organizations in establishing and implementing preparedness programs; (7) provides leadership, direction, coordination and evaluation of science and health-related activities for priority programs and emergency response agenda; (8) implements public health statutory responsibilities; (9) provides executive coordination for research programs and science policies for the Center; (10) maintains liaison with other federal, state, and local agencies, institutions, and organizations; (11) coordinates CPR public health science efforts to protect the public's health; (12) develops capacity within the states to integrate new and existing preparedness and emergency response principles into operational and programmatic expertise within CPR programs; (13) utilizes best practices to collect, analyze, and interpret data and disseminate scientific information to enable internal and external partners to make actionable decisions; (14) integrates science, data analytics and visualization into science products; (15) coordinates CPR involvement in CDC public health ethics activities; (16) represents CPR on various CDC/ATSDR scientific committees, work groups, and taskforces; (17) provides leadership and guidance in the development and implementation of goals, objectives, priorities, policies, program planning, management and operations of all general activities within the Center; (18) oversees, manages, directs, coordinates, and evaluates all Center management and operations activities; (19) coordinates with all Center offices and divisions in determining and interpreting operating policy and in ensuring their respective management input for specific program activity plans are included; (20) provides leadership for implementing statutory and compliance responsibilities across the Center; (21) provides overall issue management, health policy and partnership development direction to the Center; (22) provides and directs overall internal and external communication strategies for the Center; (23) provides leadership for and assessment of all administrative management activities to assure coordination for all management and program matters, such as coordinating risk management and emergency response activities; (24) provides overall programmatic direction for planning and management oversight of allocated resources, human resource management and general administrative support; (25) directs and coordinates activities in support of the Department's Equal Employment Opportunity program, diversity enhancement and employee professional development opportunities; and (26) reviews the effectiveness and efficiency of all administration and operations of CPR programs.

Information Resources Office (CBC13). (1) Reports all IT project costs, schedules, performances, and risks; (2) provides expert consultation in application development, information science, and technology to efficiently use resources; (3) performs technical evaluation and integrated baseline reviews of all information systems' products and services prior to procurement to ensure software purchases align with CPR strategy; (4) coordinates all enterprise-wide IT security policies and procedures with the Office of the Chief Information Officer; (5) ensures operations are in accordance with CDC Capital Planning and Investment Control guidelines; (6) ensures adherence to CDC enterprise architecture policies, guidelines, and standards; (7) ensures coordination of data harmonization and systems interoperability within CPR and facilitates linkage to related CDC-wide strategies; (8) coordinates with divisions and offices to determine IT needs and to develop strategic and action plans; and (9) provides leadership in the Center's IRGC and coordinated with CDC's ITDG.

Office of Communications (CBC14). (1) serves as the principal advisor to CPR OD on health communication and marketing practice, research, evaluation, and science; (2) provides oversight to ensure the quality of health communication and marketing campaigns and products created by CPR and its divisions; (3) serves as CPR communications clearance office for health communication campaigns and products; (4) provides strategic counsel and coordination for CPR strategic communication, health literacy, and social marketing programs in collaboration with OD and division-level staff; (5) coordinates and provides Center input on communication activities; (6) coordinates CDC and CPR brand management, policy guidance, and governance of CPR content on digital channels and websites per HHS and CDC policy for the use of communication platforms; (7) collects/analyzes user data/metrics from communication channels and technologies to assess system performance, usability, accessibility, and usefulness; (8) develops and implements all proactive media outreach and reactive media responses for the Center; (9) serves as liaison to key offices for obtaining CDC and HHS media clearance on products/activities; and (10) provides ongoing communication leadership and support to CPR's Office of the Director and divisions in furthering the Center's mission.

Office of Policy, Planning, and Evaluation (CBC16). (1) serves as liaison with CDC/OD and other Centers, Institute, and Offices (CIOs) policy offices, other government agencies, and external partners on policy, program, legislative, and budgetary issues related to CPR and divisions; (2) provides consultation, support and service to CPR divisions and CPR OD Offices for policy, planning, and evaluation; (3) leads annual CPR budget formulation and development of appropriations materials; (4) provides expertise and guidance for strategic planning and performance measurement; (5) oversees and coordinates CPR accountability activities, including Government Accountability Office and Inspector General studies, Freedom of Information Act audits and reviews; (6) develops and manages policy and program materials for stakeholders and partnership activities, including with governmental, non-governmental and private sector organizations; (7) maintains liaison with Congress on matters including appropriations, legislative bill tracking, and legislative requests, testimony for hearings, congressional inquiries, etc.; (8) oversees the preparation and routing of controlled correspondence, review clears, and other issues management related materials; and (9) assists divisions in the development and clearance of Federal Register Notices, rulemaking, and other documents for public comment.

Office of Science and Public Health Practice (CBC17). (1) provides oversight and direction for the Board of Scientific Counselors by ensuring FACA compliance and assuring the Board provides advice and guidance on preparedness and response activities conducted by CDC and CPR; (2) ensures CPR compliance with the statutes, regulations, and policies governing the conduct of science by the federal government, including but not limited to: protecting the rights and welfare of humans in research, ensuring compliance with Paperwork Reduction Act, and providing guidance to protect individuals' privacy and confidentiality; (3) develops and maintains the CPR clearance policy and performs scientific review and clearance of CPR products to ensure the quality of publications; (4) engages CPR division ADSs, staff, other CDC CIOs to develop and maintain cross-cutting scientific partnerships, ensure mutual awareness of activities, and promote scientific capacity and quality within CPR; (5) engages with CPR staff, other CDC CIOs, the academic community, federal agencies, and non-government research and practitioner organizations to develop and maintain partnerships, ensure mutual awareness of activities and advocate for evidence-informed practice related to populations with access and functional needs and activities as part of the Populations with Access and Functional Needs activity; (6) proposes, develops, and conducts research projects that address the needs of populations with access and functional needs during response and ensures these needs are addressed within CPR funded research solicitations; (7) maintains a network of population-specific subject matter experts across CDC, fostering a Community of Practice that addresses health equity issues for preparedness and response; (8) provides staffing coordination and scientific expertise through the Emergency Operations Center At-Risk Task Force during emergency responses and exercises; (9) provides scientific laboratory preparedness leadership to promote science and innovation to improve all-hazard preparedness conducted across CDC CIOs and with federal, state, local and territorial public health and other partners, and activities; (10) provides scientific management and oversight of the Strategic Capacity Building and Innovation Program (SCIP) laboratory preparedness and response portfolio, provides technical guidance, and supports building CDC capability and capacity to respond to public health emergencies in conjunction with CDC CIOs; (11) fosters opportunities to support CDC's mission through partnerships across government, non-profit organizations, and businesses; (12) fosters innovation and strategic foresight to mitigate risks, address current and future gaps, and inform partnerships and investments; (13) develops annual CDC priorities, sub-allocates funding, and conducts performance monitoring for CDC preparedness and response, and activities through SCIP; (14) advances and coordinates CDC preparedness and response to public health emergencies by building and sustaining epidemiology, surveillance, laboratory science, and medical countermeasures capability and capacity in partnership with CDC CIOs; (15) manages and allocates appropriated funds to activities across the agency that improve CDC preparedness and response; and (16) monitors progress and evaluates outcomes of SCIP investments in coordination with CDC CIOs; (17) leads the strategic investment of CPR funding for external partners to conduct applied research, disseminate, and translate science into evidence-based practices to improve federal, state, local and territorial preparedness and response to all hazards, and activities; (18) leads, collaborates on, and supports the creation of knowledge to advance public health emergency preparedness, response, and recovery policy and practice; (19) provides technical assistance and scientific clearance for products submitted to CPR related to applied research; (20) provides support and technical assistance to CPR programs in the administration and management of research grants, cooperative agreements, and contracts; and (21) provides development, implementation, support and technical assistance regarding policies and procedures for research funding proposals and announcements, technical review, award selections, and award administration/management to sponsoring divisions, applicants, and awardees.

Management Resources Office (CBC18). (1) provides leadership and guidance for CPR's management of business operations; (2) oversees, manages, directs, coordinates, and evaluates all Center management and operations activities; (3) coordinates and provides oversight to the Center's overall extramural strategy for contracts, grants, cooperative agreements, and reimbursable agreements; (4) develops and implements administrative policies, procedures, and operations; (5) provides and directs overall internal and external communication strategies for the Center; (6) conducts management and organizational analyses to review the effectiveness and efficiency of all administration and operations of Center programs and translates these into quality controls for improvement; (7) provides leadership for and assessment of all administrative management activities to assure coordination for all management and program matters, such as coordinating risk management and continuity of operations (COOP) activities; (8) provides overall programmatic direction for planning and management oversight of allocated resources, human resource management and general administrative support; (9) provides and coordinates center-wide administrative, management, and support services in the areas of fiscal management, personnel, travel, procurement, facility management, and other administrative services; (10) develops and directs employee engagement programs; (11) analyzes workforce, succession, strategic planning systems, and resources on an ongoing basis; and (12) directs and coordinates activities in support of the diversity enhancement and employee professional development opportunities.

U.S. National Authority for Containment of Poliovirus (CBC19). (1) Minimizes the risk of poliovirus (PV) release through effective implementation and oversight of the global poliovirus containment plan in the U.S.; (2) provides leadership in developing and executing a national PV containment program; (3) plans, establishes, and launches the national survey and maintains the national inventory of PV materials; (4) prepares and contributes to the annual national reports on PV containment and eradication; (5) ensures U.S. facilities transfer, inactivate or destroy PV materials appropriately, as needed; (6) ensures containment measures are implemented for facilities retaining PV, according to the World Health Organization (WHO) Global Action Plan III (GAPIII); (7) develops and publishes PV containment guidance and policies to U.S. containment requirements; (8) works with internal and external partners to establish science-based recommendations for PV containment; (9) audits and certifies facilities as a PV-essential facility (PEF) according to the WHO Containment Certification Scheme; (10) seeks WHO endorsement for U.S. PEF certification applications; (11) provides annual training and assists U.S. facilities working with PV materials to develop containment programs; (12) supports the dissemination of PV-containment information to federal, state, and local agencies, private organizations, and other national and international agencies; (13) develops and distributes informational products for educational and promotional activities related to PV containment; (14) provides technical assistance and consultations to other countries in establishing and implementing PV containment and national inventory programs; (15) plans, directs, and supports research focused on PV containment-related issues; (16) investigates exposures and root cause analysis of a containment breach; and (17) collaborates with other CDC entities, HHS agencies, academic institutions, private organizations, Ministries of Health, WHO Headquarters and Regional WHO offices, as appropriate.

Division of State and Local Readiness (CBCB). (1) provides program support, technical assistance, guidance, technical integration, and capacity building of preparedness planning across public health, healthcare, and emergency management sectors; and (2) provides fiscal oversight to state, local, tribal, and territorial public health department Cooperative Agreement recipients for the development, monitoring, and evaluation of public health capabilities, plans, infrastructure, and systems to prepare for and respond to terrorism, outbreaks of disease, natural disasters, and other public health emergencies.

Office of the Director (CBCB1). (1) Provides national leadership and guidance that supports and advances the work of state, local, tribal, and territorial public health emergency preparedness programs; (2) coordinates the development of guidelines and standards for programmatic materials within the division to provide technical assistance and program planning at the state, local, tribal, and territorial level; (3) represents and communicates the interests and needs of the state, local, tribal, and territorial jurisdictions on state and local preparedness and response issues; (4) develops and ensures effective partnerships with national stakeholders and preparedness and response partners; (5) provides oversight and management of division contracts, recipient awards and fiscal accountability; and (6) manages the IT strategy and infrastructure to support recipient programmatic and fiscal activities.

Program Implementation Branch (CBCBB). (1) Provides consultation, technical assistance, and training to state, territorial, tribal, and local health departments in management and operation of activities to support public health emergency preparedness programs and recovery, including the infrastructure and systems necessary to manage and use deployed medical countermeasure assets; (2) facilitates partnerships between public health preparedness programs at federal, state, and local levels to ensure their consistency, sharing of promising practices, and integration; (3) collaborates with and supports other divisions in CPR and other national centers across CDC to ensure high quality technical assistance is available to the grantees on preparedness capabilities; (4) monitors programmatic activities of cooperative agreements of state, local, tribal, and territorial organizations to assure program objectives and key performance indicators are achieved, including reviews of Cities Readiness Initiative response plans; (5) provides assistance to state and local governments and public health agencies to prepare for effective responses to large scale public health events; (6) evaluates and identifies gaps in jurisdictional operational readiness and facilitates plans and develops tools to address identified gaps; (7) maintains an information sharing platform to post resources and facilitate the sharing of best practices across CDC and jurisdictions; (8) improves the delivery of technical assistance to the public health entities; (9) serves as an agent of information to improve recipient access to healthcare preparedness tools and expertise and (10) collaborates with the Department during exercises or upon a federal deployment of assets.

Evaluation and Analysis Branch (CBCBC). (1) Assesses the effectiveness of the Public Health Emergency Preparedness Cooperative Agreement via performance measurement and evaluation; (2) develops and coordinates a strategy to measure and report on jurisdictional operational readiness; (3) provides analytic support and evaluation expertise to DSLR and CPR; and (4) fosters innovation and efficiency in evaluation and research through collaboration with healthcare and health security partners.

Field Assignee Services Branch (CBCBD). (1) Works with recipients to advance state and local preparedness efforts through placement of CDC field staff within state and local public health agencies; (2) provides scientific participation in development and implementation of field-based science initiatives and strategies; (3) provides situational awareness to CDC leadership when activated for public health responses; (4) provides consultation and technical assistance to state, territorial, tribal and local health departments in developing, implementing, and evaluating CPR activities and performance in support of CDC recommendations and those of their host site; (5) provides direct support for public health preparedness and epidemiologic capacity at the state, territorial, tribal, and local levels; (6) contributes as leaders in preparedness and epidemiology for a myriad of public health issues; (7) participates in the development of national preparedness and response policies and guidelines for public health emergencies and encourages and facilitates the transfer of guidelines into clinical and public health practice; (8) analyzes data to assess progress toward achieving program objectives and provides input for program management and evaluation reports for publications; (9) serves as liaison or focal point to assist state, territorial, tribal, and local partners in linking with proper resources, contacts, and obtaining technical assistance; (10) provides technical supervision and support for the CDC field staff and trainees as appropriate; (11) provides input into the development of branch and division policy, priorities, and operational procedures; (12) serves as an agent of information or technology transfer to ensure that effective methodology in one program is known and made available to other state and local programs; (13) analyzes technical and epidemiologic information to present at national and international scientific meetings and publishes programmatic, surveillance, epidemiologic information in collaboration with host agencies; and (14) develops and implements a comprehensive training and field placement program for entry-level public health preparedness and response professionals.

Division of Select Agents and Toxins (CBCC). (1) Develops, implements, and enforces select agent regulations and import permit regulations; (2) conducts registration of entities with the United States (academic, military, commercial, private, Federal and non-Federal government) that use, possess and transfer select agents and toxins; (3) establishes and maintains a national database of all entities that possess select agents and toxins and imported biological agents; (4) inspects entities to ensure compliance with select agent regulations and import permit regulations that bio-safety and bio-security regulations and national standards are met; (5) approves all select agent or toxin transfers; (6) receives and investigates reports of theft, loss, or release of a select agent or toxin; (7) partners with other government agencies, public health organizations, and registered entities to ensure compliance with the select agent regulations and import permit regulations; (8) issues permits for the importation of infectious biological agents and hosts or vectors of human disease; and (9) provides guidelines and training to regulated community on achieving compliance to the regulations.

Office of the Director (CBCC1). (1) Manages operations; (2) provides scientific leadership and consultation; (3) supports the functional teams in the Office of the Director; (4) plans for and implements sound communications efforts in order to effectively and strategically inform and influence key internal and external stakeholders regarding the program; (5) provides strategic planning, facilitating oversight studies of Division of Select Agents and Toxins (DSAT), regulatory and policy matters related to select agent and import permit programs, and executes compliance actions to the HHS-Office of Inspector General; (6) provides leadership and guidance to the division in the area of biosafety, including advising on issues involving highly complex entities; and (8) manages personnel actions, travel, purchases as well as budget planning and execution, contracts, and interagency agreement support for the division.

Federal Select Agent Program Operations Branch (CBCCB). (1) Processes entity applications for registration, awarding entities certification, processing entity amendments to their registration, performing inspections at regulated entities; (2) prepares reports of inspections and conducts follow-up on noted deficiencies; (3) receives reports of the theft, loss, or release of select agents or toxins; (4) processes requests for transfers of select agents and toxins; (5) manages security risk assessment process with the FBI to provide authorization for individuals to access select agents and toxins; (6) processes reports of select agents or toxins identified through diagnosis, verification or proficiency testing; (7) assists FBI with criminal investigations; (8) coordinates division emergency response activities; (9) provides expert advice to entities on compliance with the select agent regulations; (10) serves as a liaison with the United States Department of Agriculture (USDA) Animal and Plant Health Inspection Service (APHIS) Select Agent Regulatory Program on operational issues; and (11) performs inspections of foreign select agent laboratories in accordance with National Institutes of Health/National Institute of Allergy and Infectious Diseases agreements.

Import Permit Program Operations Branch (CBCCC). (1) Manages and processes permit applications for the importation of infectious biological materials that could cause disease in humans in order to prevent their introduction and spread into the U.S.; and (2) ensures the importation of these agents is monitored and that facilities receiving permits have appropriate biosafety measures in place to work safely with the imported materials.

Innovation and Information Technology Branch (CBCCE). (1) Manages division IT development, sustainment of operations, compliance, security and enhancement of system functions through innovation; (2) manages, sustains and improves the electronic Federal Select Agent Program information system, which is a joint-agency (HHS/CDC and USDA/APHIS), high security, web-based IT system with a two-way communication portal for maintaining registration to work with select agents and toxins, submission of amendments to registration, reporting theft, loss or release of select agents and toxins, requests for transfer of select agents and toxins, reporting identification of a select agent or toxin, inspection reports, retention of all programmatic data and generation of program reports; and (3) manages, sustains and improves the electronic Import Permit Program information system, which is a moderate security, cloud-based, electronic information system for receiving all import permit applications from U.S. importers.

Division of Emergency Operations (CBCD). (1) administers the CDC Emergency Management Program to facilitate preparedness for and response to the full scope and scale of public health threats CDC counters, domestically and internationally; (2) coordinates with all CDC CIOs in planning, training for, exercising, managing, and evaluating pre-response and response activities; (3) serves as the primary CDC point of contact under the Homeland Security Presidential Directive (HSPD-5), National Response Framework, Emergency Support Function (ESF) #8 (Public Health and Medical Services) and provides technical expertise and support to other ESFs; (4) maintains and operates the CDC national-level Emergency Operations Center (EOC), which serves as the focal point for CDC collaboration and information sharing on a 24/7/365 basis; (5) coordinates logistical, staffing, and emergency risk communication support for cross-CIO responses; (6) apprises CDC leadership and outside agencies of CDC response activities and emerging public health threats; and (7) directs relevant sections and units within an Incident Management System (IMS) structure during CDC emergency responses.

Office of the Director (CBCD1). (1) Manages the day-to-day operations of the division; (2) provides leadership and technical assistance for emergency management before and during public health responses; (3) coordinates and administers the daily management of resources for the division including budget, personnel, and acquisitions; (4) designs, develops, and maintains response information systems and solutions for the division and CDC; (5) leads and coordinates the development, clearance, maintenance, implementation, and communication of public health emergency management policies and related issues; (6) leads strategic planning and performance management for DEO's administrative and programmatic activities; (7) develops and supports a scientific research agenda in public health emergency management within the division and across CDC; and (8) promotes health equity through CDC emergency preparedness and response activities.

Emergency and Risk Communications Branch (CBCDB). (1) Prepares for and coordinates CDC's communication response to public IMS health threats and emergencies, serving as the agency's primary communication liaison with federal (including through ESF #15, External Affairs), state, tribal, local, and territorial, and international partners; (2) identifies, develops, coordinates, and monitors strategies for translation and delivery of CDC's emergency risk communication messages and information to specific audiences for maximum health impact; (3) coordinates and integrates emergency and risk communication activities within CDC to respond to public health emergencies; (4) co-leads the Joint Information Center within an IMS during CDC emergency responses; (5) develops emergency risk communication recommended practices and curriculum, and supports emergency risk communication capacity building through technical assistance and training; (6) ensures that CDC's emergency risk communication messages are available, timely, accessible, understandable, culturally appropriate, and actionable; (7) develops and manages channels and partner engagement mechanisms to distribute emergency risk communication messages before, during, and after public health emergencies; (8) creates and manages systems, procedures, processes, and platforms (including CDC's Emergency Preparedness and Response internet site) for CDC's emergency communication activities; (9) manages and implements protocols to clear public health emergency information; (10) conducts research, monitoring, and evaluation to assess awareness, knowledge, attitudes, reactions, and behaviors related to urgent health threats and refine preparedness and emergency risk communication strategies and tactics; and (11) supports the development, maintenance, and implementation of policies related to public health emergency risk communication activities.

Resource Support Branch (CBCDC). (1) Develops, maintains, communicates, and executes policies, plans, and procedures to coordinate logistical and personnel resource support for emergency responses; (2) directs the Resource Support Section within an IMS structure during CDC emergency responses; (3) manages and distributes emergency response equipment and supplies, including personal protective equipment (PPE), and administers the division's accountable property inventory; (4) procures or coordinates resources (e.g., supplemental space, transportation, equipment, and supplies) to support preparedness and response activities; (5) administers information systems and communication platforms to coordinate the management of emergency response staffing, field deployments, equipment, and supplies; (6) leads and administers CDC emergency responder workforce processes, procedures, and tools, and leverages related data, to support the planning, preparation, and execution of emergency response operations, including the identification, alignment, and assignment/deployment of CDC staff to response roles; (7) develops and executes processes and tools for the request, approval, notification, coordination and tracking of all response field deployments among CDC CIOs; and (8) provides and coordinates emergency travel services for emergency response operations and urgent, non-routine travel for CDC programs.

Operations Branch (CBCDD). (1) Serves as the central point of contact between CDC and other federal, state, tribal, local, territorial, and international agencies for public health threats and emergencies on a 24/7/365 basis; (2) develops and maintains proficiency on emergency management plans, protocols, and procedures to coordinate requests for information, assistance, and resources across CDC for public health threats and emergencies; (3) directs the Operations Section within an IMS structure during CDC emergency responses; (4) manages and advises on the initial IMS activation process and notification to CDC programs and centers, on behalf of the DEO director; (5) maintains situational awareness of disaster and emergency response activities among other agencies via their respective EOCs to provide a common operating picture for CDC leadership; (6) coordinates with CDC CIOs to develop and maintain critical information requirements and notify key leaders of time-sensitive/critical information; (7) conducts safety and accountability monitoring of CDC staff, facilities, and regulated entities before, during, and after incidents that may threaten safety or security, in collaboration with appropriate CDC CIOs; (8) manages the EOC facility, including its components (e.g., audiovisual and communications equipment and tools) and processes, to maintain its operational capability, including when COOP plans are implemented; (9) leads CDC's Emergency Coordinator (EC) program, maintaining communication with representatives from all CIOs on public health preparedness and emergency response activities; and (10) supports the development, maintenance, and implementation of policies related to public health emergency management operations activities.

Plans, Exercise, and Evaluation Branch (CBCDE). (1) Develops, coordinates, and maintains CDC emergency operations plans, the CDC All-Hazards Plan, event-specific incident annexes, and National Special Security Event plans, and related procedures; (2) directs the Planning Section within an IMS structure during CDC emergency responses; (3) develops, publishes, and maintains contingency plans, incident action plans, transition plans, situation reports, and evaluation products, including through the IMS Planning Section; (4) liaises with internal and external organizations to develop, maintain, exercise, and implement federal and national plans; (5) leads the scheduling, design, development, and conduct of, and participation in, CDC's public health preparedness and response exercises, including through delivery of threat-driven training and exercise programs; (6) coordinates CDC's participation in the National Exercise Program and the agency's support to other external, all-hazards exercises; (7) evaluates CDC emergency responses and exercises to assess the agency's response capabilities; (8) develops and disseminates After-Action Reports/Improvement Plans and other preparedness and response evaluation products; (9) manages CDC's Corrective Action Program and tracks improvement plans; (10) chairs CDC's Steering Committees for Plans, Exercises, and Evaluations; and (11) supports the development, maintenance, and implementation of policies related to public health emergency management planning, exercise, and evaluation activities.

Response Analytics and Decision Support Branch (CBCDG). (1) Leads the management and maintenance of public health emergency preparedness and response information gathering, analysis, and sharing through knowledge management and scalable processes that support response decision making; (2) establishes public health emergency preparedness vocabulary and information exchange standards to meet the reporting and information sharing requirements of cross-jurisdictional partners; (3) compiles, correlates, analyzes, creates, and distributes reports and visualizations to support IMS and CDC leadership decision-making; (4) provides coordination, planning, and development support for data collection, management, and production of analytics and geospatial data, including GIS/mapping; (5) provides informatics, data management, and reporting support to external federal, state, tribal, local, territorial, and international partners; (6) conducts and supports data management, information exchange, and risk communication among federal, state, and local partners; and (7) supports the development, maintenance, and implementation of policies related to public health emergency situational awareness, data analytics and visualization, and knowledge management activities.

Emergency Management Training and Capacity Development Branch (CBCDH).(1) Promotes public health emergency management doctrine, standards, guidelines, and tools through training and technical assistance within CDC and among its domestic and international partners; (2) conducts needs assessments, establishes role-specific core competencies, and identifies training requirements, including for response plans and related IMS activations; (3) develops and delivers training curricula for emergency responders and IMS response leadership within CDC; (4) manages public health emergency management fellowship programs and related trainings to build emergency management leadership capacity domestically and internationally; (5) provides direct technical assistance to partners in public health risk assessments, the establishment of public health emergency management programs and public health emergency operations centers, and the execution of public health emergency management activities during responses; (6) leads and maintains an international community of practice for public health emergency managers; (7) evaluates emergency response training and capacity building programs and recommends changes to established doctrine; and (8) supports the development, maintenance, and implementation of policies related to public health emergency management training and capacity building activities.

Retitle the Advance Team Activity (CAT12) to the Advance Team (CAT12).

Retitle the Office of the Associate Director for Global Health Diplomacy and Strategy (CAE) to the Office of the Associate Director for Global Health Coordination (CAE).

Robin D. Bailey Jr.,
Chief Operating Officer, Centers for Disease Control and Prevention.

[FR Doc. 2022-18094 Filed 8-22-22; 8:45 am]

BILLING CODE 4163-18-P